DEPARTMENT OF ENERGY

Federal Energy Regulatory Commission

[Docket No. CP05-42-000]

Tennessee Gas Pipeline Company; Notice of Application

January 6, 2005.

Take notice that on December 30, 2004, Tennessee Gas Pipeline Company (Tennessee), 1001 Louisiana St., Houston, Texas 77002, filed an application in Docket No. CP05-42-000 pursuant to section 7(b) and 7(c) of the Natural Gas Act (NGA) and part 157(A) of the Commission's Regulations, for authorization to abandon two Solar Centaur T-3002R (Centaur T-3002R) turbines that drive centrifugal compressors at its Compressor Station 325 in Liberty County, New Jersey, and replace them with two Solar Centaur 40-4700S (Centaur 40) turbines that drive centrifugal compressors to comply with the Clean Air Act Amendments of 1990, all as more fully set forth in the application which is on file with the Commission and open to public inspection. This filing may be also viewed on the Web at http://www.ferc.gov using the “eLibrary” link. Enter the docket number excluding the last three digits in the docket number field to access the document. For assistance, please contact FERCOnline Support at FERCOnlineSupport@ferc.gov or toll free at (866) 208-3676, or TTY, contact (202) 502-8659.

Tennessee explains that upon direction of the Environmental Protection Agency (EPA), the New Jersey Department of Environmental Protection revised its regulations in April 2004 eliminating the open market emission trading program which had allowed owners and operators to use discrete emission reduction credits to comply with the EPA NOX Reasonably Available Control Technology (RACT) emission levels. Tennessee further explains that the elimination of this program requires Tennessee to adopt an alternative method to meeting the EPA's NOX RACT levels, and Tennessee is therefore proposing to replace the two existing Centaur T-3002R turbines with two Centaur 40 turbines at Compressor Station 325.

Any questions regarding this application should be directed to Susan T. Halbach, Senior Counsel, 1001 Louisiana, Houston, Texas 77002, at (713) 420-5751.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: January 26, 2005.

Magalie R. Salas,
Secretary.

[FR Doc. E5-93 Filed 1-11-05; 8:45 am]

BILLING CODE 6717-01-P